DEPARTMENT OF THE INTERIOR

Fish and Wildlife Service

[FWS-R8-R-2011-N041; 1261-0000-80230-W5]

South Farallon Islands Nonnative Mouse Eradication Project; Farallon National Wildlife Refuge, California; Intent To Prepare an Environmental Impact Statement

AGENCY: Fish and Wildlife Service, Interior.

ACTION: Notice of intent; request for public comment.

SUMMARY: We, the U.S. Fish and Wildlife Service (Service), advise the public that we intend to gather information necessary to prepare an environmental impact statement (EIS) pursuant to the National Environmental Policy Act (NEPA, for a proposed project to eradicate nonnative mice from the South Farallon Islands, part of the Farallon National Wildlife Refuge off the coast of California. We encourage the public and other agencies to participate in the planning process by sending written comments on management actions that we should consider.

DATES: To ensure that we have adequate time to evaluate and incorporate suggestions and other input, we must receive your comments on or before May 27, 2011.

ADDRESSES: Send written comments or requests to be added to our project mailing list to: Gerry McChesney, Refuge Manager, Farallon National Wildlife Refuge, 9500 Thornton Avenue, Newark, CA 94560. Alternatively, you may send written comments or requests by fax to (510) 745-9285 or by e-mail to sfbaynwrc@fws.gov.

FOR FURTHER INFORMATION CONTACT: Gerry McChesney, Refuge Manager, (510) 792-0222.

SUPPLEMENTARY INFORMATION:

Background

In 2009, the Service completed a Comprehensive Conservation Plan (CCP) and Environmental Assessment/Finding of No Significant Impact to guide the management of Farallon National Wildlife Refuge over a 15-year period (75 FR 5102 February 1, 2010). The wildlife management goal of the selected management alternative in the CCP is to protect, inventory, monitor, and restore to historic levels breeding populations of 12 seabird species, 5 marine mammal species, and other native wildlife. One of the strategies identified to meet this goal is the eradication of the house mouse and the prevention of future human introduction of mice.

We now propose to eradicate nonnative house mice (Mus musculus) from the South Farallon Islands. The purpose of this project is to protect and restore the ecosystem of the South Farallon Islands, particularly for seabirds and other native biological resources. The South Farallon Islands have sustained ecological damage over many years from the presence of introduced mice.

In 1909, President Theodore Roosevelt established the Farallon National Wildlife Refuge (Refuge), as a preserve and breeding ground for marine birds under Executive Order 1043. The Refuge originally encompassed only the North and Middle Farallon Islands and Noonday Rock. In 1969 the Refuge was expanded to include the South Farallon Islands and is still managed with the same basic purpose today. The isolated nature, varied and extensive habitats, and adjacent productive marine environment make the South Farallon Islands an ideal breeding and resting location for wildlife, especially seabirds and marine mammals. The Refuge comprises the largest continental U.S. seabird breeding colony south of Alaska, and supports the world's largest breeding colonies of ashy storm-petrel (Oceanodroma homochroa), Brandt's cormorant (Phalacrocorax penicillatus) and western gull (Larus occidentalis). Prior to the introduction of non-native mammals, the South Farallon Islands were nearly devoid of land-based predatory threats. Introduced European rabbits and cats, which were later removed, and mice, which remain on the South Farallon Islands today, have had noticeable negative impacts on native species.

Introduced nonnative mice directly and indirectly cause negative impacts to the populations of small burrow- and crevice-nesting seabirds on the South Farallones, particularly storm-petrels. In order to reduce this impact, the Service has identified mouse eradication as a critical step in fulfilling its main purpose to protect and restore the native ecosystems of the South Farallon Islands. Eradicating mice would increase the survivorship, and would likely increase the local population sizes, of at least two seabird species, the ashy storm-petrel and Leach's storm-petrel. The eradication project may also benefit other seabirds, as well as native amphibians, insects, invertebrates, and plants, including the endemic Farallon arboreal salamander (Aneides lugubris farallonensis) and Farallon camel cricket (Farallonophilus cavernicolus).

The Service has initially identified three possible alternatives:

(1) No Action, which would allow mice to remain on the South Farallon Islands, maintaining the status quo.

(2) Mouse eradication, with an aerial broadcast of granular pellets with the rodenticide brodifacoum as the primary technique, with the entire island group treated simultaneously.

(3) Mouse eradication, with an aerial broadcast of granular bait pellets with the rodenticide brodifacoum as the primary technique, conducted in phases, in which different islands of the group would be treated from days to weeks apart.

The Service is currently determining what measures could be included to minimize adverse effects to nontarget species, while ensuring that every mouse has access to the bait during the eradication window.

Public Comment

We are furnishing this notice in accordance with section 1501.7 of the NEPA implementing regulations, to obtain suggestions and information from other agencies and the public on the scope of issues to be addressed in the EIS. We invite written comments from interested parties to ensure identification of the full range of alternatives, issues and concerns. Information gathered through this scoping process will assist us in developing a range of alternatives. A detailed description of the proposed action and alternatives will be included in the EIS. The EIS will also address the direct, indirect, and cumulative impacts of the alternatives on environmental resources and identify appropriate mitigation measures for adverse environmental effects.

Written comments we receive become part of the public record associated with this action. Before including your address, phone number, e-mail address, or other personal identifying information in your comment, you should be aware that your entire comment, including your personal identifying information, may be made publicly available at any time. While you can ask us in your comment to withhold your personal identifying information from public review, we cannot guarantee that we will be able to do so.

In addition to providing written comments, the public is encouraged to attend a public scoping meeting to provide us with suggestions and information on the scope of issues and alternatives to consider when drafting the EIS. A public scoping meeting will be held in San Francisco, California, in the spring of 2011. We will mail a separate announcement to the public with the exact date, time, and location of the public scoping meeting. We will accept both oral and written comments at the scoping meeting.

NEPA Compliance

We will conduct environmental review in accordance with the requirements of NEPA, as amended (42 U.S.C. 4321 et seq.), its implementing regulations (40 CFR parts 1500-1508), other applicable regulations, and our procedures for compliance with those regulations. We anticipate that a draft EIS will be available for public review in the fall of 2011.

Dated: April 7, 2011.
Alexandra Pitts,
Regional Director, Pacific Southwest Region.

[FR Doc. 2011-8813 Filed 4-12-11; 8:45 am]

BILLING CODE 4310-55-P